DEPARTMENT OF TRANSPORTATION

National Highway Traffic Safety Administration

[Docket No. NHTSA-2017-0027; Notice 1]

Cooper Tire & Rubber Company, Receipt of Petition for Decision of Inconsequential Noncompliance

AGENCY: National Highway Traffic Safety Administration, Department of Transportation (DOT).

ACTION: Receipt of petition.

SUMMARY: Cooper Tire & Rubber Company (Cooper), has determined that certain Cooper Mastercraft Courser HSX Tour brand tubeless radial tires do not fully comply with Federal Motor Vehicle Safety Standard (FMVSS) No. 139, New Pneumatic Radial Tires for Light Vehicles. Cooper filed a noncompliance report dated April 12, 2017. Cooper also petitioned NHTSA on April 12, 2017, for a decision that the subject noncompliance is inconsequential as it relates to motor vehicle safety.

DATES: The closing date for comments on the petition is July 5, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Cooper Tire & Rubber Company (Cooper), has determined that certain Cooper Mastercraft Courser HSX Tour brand tubeless radial tires do not fully comply with paragraph S5.5.1(b) of FMVSS No. 139, New Pneumatic Radial Tires for Light Vehicles. Cooper filed a noncompliance report dated April 12, 2017, pursuant to 49 CFR part 573, Defect and Noncompliance Responsibility and Reports. Cooper also petitioned NHTSA on April 12, 2017, pursuant to 49 U.S.C. 30118(d) and 30120(h) and 49 CFR part 556, for an exemption from the notification and remedy requirements of 49 U.S.C. Chapter 301 on the basis that this noncompliance is inconsequential as it relates to motor vehicle safety.

This notice of receipt of Cooper's petition is published under 49 U.S.C. 30118 and 30120 and does not represent any agency decision or other exercise of judgment concerning the merits of the petition.

II. Tires Involved: Approximately 484 Cooper Mastercraft Courser HSX Tour brand tubeless radial tires, size 275/55R20, manufactured between March 6, 2017, and March 15, 2017, are potentially involved.

III. Noncompliance: Cooper explains that the noncompliance is that the inboard sidewalls of the subject tires are labeled with an incorrect manufacturer's identification mark, and therefore do not fully meet all applicable requirements of paragraph S5.5.1(b) of FMVSS No. 139. Specially, the tires are labeled with the manufacturer's identification mark “UP” instead of “UT.”

IV. Rule Text: Paragraph S5.5.1 of FMVSS No. 139 states, in pertinent part:

S5.5.1 Tire Identification Number.

. . .

(b) Tires manufactured on or after September 1, 2009. Each tire must be labeled with the tire identification number required by 49 CFR part 574 on the intended outboard sidewall of the tire. Except for retreaded tires, either the tire identification number or a partial tire identification number, containing all characters in the tire identification number, except for the date code and, at the discretion of the manufacturer, any optional code, must be labeled on the other sidewall of the tire. Except for retreaded tires, if a tire does not have an intended outboard sidewall, the tire must be labeled with the tire identification number required by 49 CFR part 574 on one sidewall and with either the tire identification number or a partial tire identification number, containing all characters in the tire identification number except for the date code and, at the discretion of the manufacturer, any optional code, on the other side wall.

V. Summary of Cooper's Petition: Cooper described the subject noncompliance and stated its belief that the noncompliance is inconsequential as it relates to motor vehicle safety.

In support of its petition, Cooper submitted the following reasoning:

a) While the 484 tires in the subject population contain an improper plant code on the inboard side of the tire, they are in all other respects properly labeled and meet all performance requirements under the Federal Motor Vehicle Safety Standards. Plant code identification has no bearing on the performance or operation of a tire and does not create a safety concern to either the operator of the vehicle on which the tires are mounted, or the safety of personnel in the tire repair, retread and recycle industry.

b) Tire registration and traceability could be a concern in some instances where there are plant code errors; however, in this instance, the incorrect plant code is still tied to a Cooper Tire manufacturing facility. Consumers will be able to accurately identify the responsible manufacturer and there will be no issues with registering the tires. Cooper Tire has modified its internal registration systems to allow for the proper registration of the affected tires. Cooper Tire accepts tire registration in a number of ways including electronically via the company's Web site. Cooper Tire's online database has been modified to accept registrations from consumers which include an incorrectly listed UP plant code when the other identifying information (brand, serial week) are accurately reported. Cooper Tire also accepts hard copy tire registration cards, which it processes manually. As long as the remaining identifying information (brand, serial and week) are listed accurately on the registration card, Cooper Tire will process the registration. All internal personnel responsible for manual processing of tire registration cards have been made aware of the plant code error and have been trained on how to accurately process and register tires with the incorrect plant code information. Lastly, Cooper Tire receives some registration cards through Computerized Information and Management Services, Inc. (“CIMS”), a third-party vendor that collects and provides tire registration cards to a number of manufacturers, including Cooper Tire. CIMS has been made aware of the plant code error. CIMS has informed Cooper Tire that they will provide all registration cards to Cooper Tire that have a Cooper Tire plant code listed.

c) In the event Cooper Tire has to conduct a safety related recall in connection with the 484 subject tires, Cooper Tire will include TINs UT Yl FXJ 1017 to 1117 and UP Yl FXJ 1017 to 1117 in its recall universe, so that there will be no issues with regard to identifying the recall population. Should Cooper Tire receive any affected tires in its service facilities for adjustments, the service technician will record the proper TIN number to accurately record the data.

d) Cooper Tire has taken steps over the last year to add additional checks in its processes to prevent TIN errors. One of those checks includes implementing software that only allows for the plant to choose the plant code from a drop down menu that includes only its specific plant code. In this instance, however, the molds were transferred from one Cooper Tire facility (Findlay) to another (Texarkana). The Texarkana employee responsible for preparing the mold for use in the Texarkana facility only modified the mold on one side and the error went undetected. The mold containing the error was in production from March 6th through March 15th and when the error was detected on March 30th, the plug error was corrected in the mold to prevent future issues. Responsible Cooper Tire personnel will receive additional training on these processes.

Cooper concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Cooper no longer controlled at the time it determined that the noncompliance existed. However, any decision on this petition does not relieve equipment distributors and dealers of the prohibitions on the sale, offer for sale, or introduction or delivery for introduction into interstate commerce of the noncompliant tires under their control after Cooper notified them that the subject noncompliance existed.

Authority: (49 U.S.C. 30118, 30120: delegations of authority at 49 CFR 1.95 and 501.8)

Jeffrey M. Giuseppe,
Director, Office of Vehicle Safety Compliance.

[FR Doc. 2017-11526 Filed 6-2-17; 8:45 am]

BILLING CODE 4910-59-P